DEPARTMENT OF ENERGY

Federal Energy Regulatory Commission

Combined Notice of Filings #1

Take notice that the Commission received the following electric rate filings:

Docket Numbers: ER11-4501-005; ER12-2448-003; ER12-979-003; ER11-4498-004; ER11-4499-004.

Applicants: Caney River Wind Project, LLC, Chisholm View Wind Project, LLC, Rocky Ridge Wind Project, LLC, Smoky Hills Wind Farm, LLC, Smoky Hills Wind Project II, LLC.

Description: Updated Market Power Analysis for the Southwest Power Pool, Inc. Region of Caney River Wind Project, LLC, et al.

Filed Date: 02/01/2013.

Accession Number: 20130201-5236.

Comments Due: 5 p.m. ET 4/2/13.

Docket Numbers: ER13-868-000.

Applicants: Midwest Independent Transmission System Operator, Inc.

Description: 2-1-2013 Module E-2 Filing to be effective 4/2/2013.

Filed Date: 2/1/13.

Accession Number: 20130201-5157.

Comments Due: 5 p.m. ET 2/22/13.

Docket Numbers: ER13-869-000.

Applicants: New York Independent System Operator, Inc.

Description: Compliance filing re: inclusion of TB 217 within the tariffs to be effective 4/2/2013.

Filed Date: 2/1/13.

Accession Number: 20130201-5181.

Comments Due: 5 p.m. ET 2/22/13.

Docket Numbers: ER13-870-000.

Applicants: Kansas City Power & Light Company.

Description: Rate Schedule 54 Kansas BPU Filing to be effective 3/15/2013.

Filed Date: 2/1/13.

Accession Number: 20130201-5182.

Comments Due: 5 p.m. ET 2/22/13.

Docket Numbers: ER13-871-000.

Applicants: Midwest Independent Transmission System Operator, Inc.

Description: 2013-02-01 SA 2506 ITC-Pheasant Run E&P to be effective 1/3/2013.

Filed Date: 2/1/13.

Accession Number: 20130201-5201.

Comments Due: 5 p.m. ET 2/22/13.

Docket Numbers: ER13-872-000.

Applicants: California Independent System Operator Corporation.

Description: 2013-02-01 Market-Based Rate Authority Suspension to be effective 4/1/2013.

Filed Date: 2/1/13.

Accession Number: 20130201-5207.

Comments Due: 5 p.m. ET 2/22/13.

Docket Numbers: ER13-873-000.

Applicants: New England Power Pool Participants Committee.

Description: Feb 2013 Membership Filing to be effective 1/1/2013.

Filed Date: 2/1/13.

Accession Number: 20130201-5209.

Comments Due: 5 p.m. ET 2/22/13.

Docket Numbers: ER13-874-000.

Applicants: Rocky Mountain Reserve Group.

Description: 20130201_RMRG Agreement to be effective 4/1/2013.

Filed Date: 2/1/13.

Accession Number: 20130201-5215.

Comments Due: 5 p.m. ET 2/22/13.

Take notice that the Commission received the following open access transmission tariff filings:

Docket Numbers: OA07-35-007.

Applicants: Cleco Power LLC.

Description: Cleco Power LLC's 2012 Informational Filing of Operational Penalty Assessments and Distributions as Required by Order Nos. 890 and 890-A.

Filed Date: 2/1/13.

Accession Number: 20130201-5239.

Comments Due: 5 p.m. ET 2/22/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 4, 2013.
Nathaniel J. Davis, Sr.,
Deputy Secretary.

[FR Doc. 2013-03016 Filed 2-8-13; 8:45 am]

BILLING CODE 6717-01-P